DEPARTMENT OF ENERGY

Federal Energy Regulatory Commission

Combined Notice of Filings #2

Take notice that the Commission received the following electric corporate filings:

Docket Numbers: EC11-70-000.

Applicants: Iberdrola Renovables, S.A. and Its Public Utility Affiliates.

Description: Joint Application of Iberdrola Renovables, S.A. and Its Public Utility Affiliates under Section 203 of the Federal Power Act, and Requests for Waivers of Filing Requirements, Shortened Comment Period and Expedited Consideration.

Filed Date: 04/19/2011.

Accession Number: 20110419-5110.

Comment Date: 5 p.m. Eastern Time on Tuesday, May 10, 2011.

Docket Numbers: EC11-71-000.

Applicants: FirstEnergy Generation Corp.

Description: FirstEnergy Generation Corp. Application for Authorization Pursuant to Section 203 of the Federal Power Act and Requests for Waivers of Filing Requirements and Confidential Treatment.

Filed Date: 04/19/2011.

Accession Number: 20110419-5174.

Comment Date: 5 p.m. Eastern Time on Tuesday, May 10, 2011.

Take notice that the Commission received the following exempt wholesale generator filings:

Docket Numbers: EG11-75-000.

Applicants: Dempsey Ridge Wind Farm, LLC.

Description: EWG Self-Certification Dempsey Ridge Wind Farm, LLC.

Filed Date: 04/19/2011.

Accession Number: 20110419-5169.

Comment Date: 5 p.m. Eastern Time on Tuesday, May 10, 2011.

Take notice that the Commission received the following electric rate filings:

Docket Numbers: ER01-48-022.

Applicants: Powerex Corp.

Description: Powerex Corp. Notice of Non-Material Change in Status.

Filed Date: 04/19/2011.

Accession Number: 20110419-5115.

Comment Date: 5 p.m. Eastern Time on Tuesday, May 10, 2011.

Docket Numbers: ER10-3096-002.

Applicants: Public Service Company of New Mexico.

Description: Public Service Company of New Mexico submits tariff filing per 35: WestConnect Experimental Tariff to be effective 9/28/2010.

Filed Date: 04/19/2011.

Accession Number: 20110419-5080.

Comment Date: 5 p.m. Eastern Time on Tuesday, May 10, 2011.

Docket Numbers: ER11-2074-001.

Applicants: PJM Interconnection, L.L.C.

Description: PJM Interconnection, L.L.C. submits tariff filing per 35: Compliance Filing per Jan 20, 2011 Order in Docket ER11-2074-000 (ER09-1063-003) to be effective 6/18/2011.

Filed Date: 04/19/2011.

Accession Number: 20110419-5123.

Comment Date: 5 p.m. Eastern Time on Tuesday, May 10, 2011.

Docket Numbers: ER11-3051-001.

Applicants: Macho Springs Power I, LLC.

Description: Macho Springs Power I, LLC submits tariff filing per 35.17(b): MBR Compliance Filing to be effective 5/1/2011.

Filed Date: 04/19/2011.

Accession Number: 20110419-5176.

Comment Date: 5 p.m. Eastern Time on Friday, April 29, 2011.

Docket Numbers: ER11-3385-000.

Applicants: ISO New England Inc., New England Power Pool Participants Committee.

Description: ISO New England Inc. submits tariff filing per 35.13(a)(2)(iii): Rev. to Sch. 16 of the OATT to Adjust Filing and Effective Date to be effective 6/20/2011.

Filed Date: 04/19/2011.

Accession Number: 20110419-5114.

Comment Date: 5 p.m. Eastern Time on Tuesday, May 10, 2011.

Docket Numbers: ER11-3386-000.

Applicants: PJM Interconnection, L.L.C.

Description: Application of PJM Interconnection, L.L.C. Request for Limited Tariff Waiver and Request for Fast Track Processing.

Filed Date: 04/19/2011.

Accession Number: 20110419-5121.

Comment Date: 5 p.m. Eastern Time on Tuesday, May 10, 2011.

Docket Numbers: ER11-3387-000.

Applicants: California Independent System Operator Corporation.

Description: California Independent System Operator Corporation submits tariff filing per 35.13(a)(2)(iii): 2011-04-19 CAISO's Rate Schedule No. 69 and Termination of Rate Schedule No. 42 to be effective 5/1/2011.

Filed Date: 04/19/2011.

Accession Number: 20110419-5122.

Comment Date: 5 p.m. Eastern Time on Tuesday, May 10, 2011.

Docket Numbers: ER11-3388-000.

Applicants: California Independent System Operator Corporation.

Description: California Independent System Operator Corporation submits tariff filing per 35.13(a)(2)(iii): 2011-04-19 CAISO's Service Agreement 1965 BAAPST with BANC to be effective 5/1/2011.

Filed Date: 04/19/2011.

Accession Number: 20110419-5124.

Comment Date: 5 p.m. Eastern Time on Tuesday, May 10, 2011.

Docket Numbers: ER11-3389-000.

Applicants: Public Service Company of Colorado.

Description: Public Service Company of Colorado submits tariff filing per 35.13(a)(2)(iii): 4-19-2011_PSCo-WestConnect-Extend-Term-Filing to be effective 7/1/2011.

Filed Date: 04/19/2011.

Accession Number: 20110419-5125.

Comment Date: 5 p.m. Eastern Time on Tuesday, May 10, 2011.

Docket Numbers: ER11-3390-000.

Applicants: Interstate Power and Light Company.

Description: Interstate Power and Light Company submits tariff filing per 35.13(a)(2)(iii): IPL Changes in Depreciation Rates for Wholesale Production Service to be effective 6/30/2011.

Filed Date: 04/19/2011.

Accession Number: 20110419-5126.

Comment Date: 5 p.m. Eastern Time on Tuesday, May 10, 2011.

Docket Numbers: ER11-3391-000.

Applicants: Dempsey Ridge Wind Farm, LLC.

Description: Dempsey Ridge Wind Farm, LLC submits tariff filing per 35.12: Application for Market-Based Rate Authority to be effective 10/1/2011.

Filed Date: 04/19/2011.

Accession Number: 20110419-5133.

Comment Date: 5 p.m. Eastern Time on Tuesday, May 10, 2011.

Docket Numbers: ER11-3392-000.

Applicants: PJM Interconnection, L.L.C.

Description: PJM Interconnection, L.L.C. submits tariff filing per 35.13(a)(2)(iii): Clean Up To Include ER11-2288-001 Compliance Revisions to be effective 4/20/2011.

Filed Date: 04/19/2011.

Accession Number: 20110419-5134.

Comment Date: 5 p.m. Eastern Time on Tuesday, May 10, 2011.

Docket Numbers: ER11-3393-000.

Applicants: Public Service Company of New Mexico.

Description: Public Service Company of New Mexico submits tariff filing per 35: PNM WestConnect Experimental Tariff Compliance Filing to be effective 9/28/2010.

Filed Date: 04/19/2011.

Accession Number: 20110419-5177.

Comment Date: 5 p.m. Eastern Time on Tuesday, May 10, 2011.

Take notice that the Commission received the following qualifying facility filings:

Docket Numbers: QF11-228-000.

Applicants: City of New Bern, NC.

Description: Form 556 of PowerSecure, Inc. for the City of New Bern, NC facility at Food Lion 1368.

Filed Date: 04/19/2011.

Accession Number: 20110419-5090.

Comment Date: None Applicable.

Docket Numbers: QF11-229-000.

Applicants: City of New Bern, NC.

Description: Form 556 of PowerSecure, Inc. on behalf of the City of New Bern, NC at CarolinaEast Medical Center.

Filed Date: 04/19/2011.

Accession Number: 20110419-5091.

Comment Date: None Applicable.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Dated: April 19, 2011.
Nathaniel J. Davis, Sr.,
Deputy Secretary.

[FR Doc. 2011-9978 Filed 4-25-11; 8:45 am]

BILLING CODE 6717-01-P